COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List products and services to be furnished by nonprofit agencies employing persons who are blind or have other severe disabilities, and to delete products previously furnished by such agencies.

COMMENTS MUST BE RECEIVED ON OR BEFORE: April 4, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

End of Certification

The following products and services are proposed for addition to Procurement List for production by the nonprofit agencies listed:

Products:

Product/NSN: Trousers, Desert Camouflage (Type VII).

Additional 200,000 Units in any combination:

8415-01-327-5324

8415-01-327-5325

8415-01-327-5326,

8415-01-327-5327

8415-01-327-5328

8415-01-327-5329

8415-01-327-5330

8415-01-327-5331

8415-01-327-5332

8415-01-327-5333

8415-01-327-5334

8415-01-327-5335

8415-01-327-5336

8415-01-327-5337

8415-01-327-5338

8415-01-327-5339

8415-01-327-5340

8415-01-327-5341

8415-01-327-5342

8415-01-327-5343

8415-01-327-5344

8415-01-498-7929

8415-01-498-7924

8415-01-498-7926

Product/NSN: Trousers, Woodland Camouflage (Type I).

Additional 200,000 Units in any combination:

8415-01-084-1016

8415-01-084-1017

8415-01-084-1705

8415-01-084-1706

8415-01-084-1707

8415-01-084-1708

8415-01-084-1709

8415-01-084-1710

8415-01-084-1711

8415-01-084-1712

8415-01-084-1713

8415-01-084-1714

8415-01-084-1715

8415-01-084-1716

8415-01-084-1717

8415-01-084-1718

8415-01-134-3193

8415-01-134-3194

8415-01-134-3195

8415-01-134-3196

8415-01-134-3197

8415-01-413-6202

8415-01-413-6207

8415-01-413-6210

Product/NSN: Trousers, Woodland Camouflage (Type VI).

Additional 200,000 Units in any combination:

8415-01-390-8554

8415-01-390-8556

8415-01-390-8939

8415-01-390-8940

8415-01-390-8941

8415-01-390-8942

8415-01-390-8943

8415-01-390-8944

8415-01-390-8945

8415-01-390-8946

8415-01-390-8947

8415-01-390-8948

8415-01-390-8949

8415-01-390-8950

8415-01-390-8951

8415-01-390-8952

8415-01-390-8953

8415-01-390-8954

8415-01-391-1061

8415-01-391-1062

8415-01-391-1063

8415-01-400-3676

8415-01-400-3677

8415-01-400-3678

NPA: Goodwill Industries of South Florida, Inc., Miami, Florida

Contract Activity: Defense Supply Center Philadelphia, Philadelphia, Pennsylvania

Services

Service Type/Location: Janitorial/Custodial, Social Security District Office, 3231 Martin Luther King Blvd., Dallas, Texas.

NPA: The Arc of Caddo-Bossier, Shreveport, Louisiana.

Contract Activity: GSA, Public Buildings Service, Central Area, Dallas, Texas.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Product/NSN: Cap, Food Handler's.

8415-00-234-7677

8415-00-234-7678

8415-00-234-7679

NPA: BESB Industries, West Hartford, Connecticut.

NPA: Virginia Industries for the Blind, Charlottesville, Virginia.

Contract Activity: Defense Supply Center Philadelphia, Philadelphia, Pennsylvania.

Product/NSN: Slide Fastener Unit, Laced Boot.

8430-00-465-1888

8430-00-465-1889

8430-00-465-1890.

NPA: Lighthouse for the Blind of the Palm Beaches, Inc., West Palm Beach, Florida.

Contract Activity: Defense Supply Center Philadelphia, Philadelphia, Pennsylvania.

Product/NSN: Streamer, Warning, Aircraft.

8345-00-863-9170

NPA: BESB Industries, West Hartford, Connecticut.

Contract Activity: Defense Supply Center Philadelphia, Philadelphia, Pennsylvania.

Sheryl D. Kennerly,
Director, Information Management.

[FR Doc. 04-4984 Filed 3-4-04; 8:45 am]

BILLING CODE 6353-01-P